DEPARTMENT OF AGRICULTURE

Forest Service

Information Collection; Timber Sale Contract Operations and Administration

AGENCY: Forest Service, Agriculture (USDA).

ACTION: Notice; request for comment.

SUMMARY: In accordance with the Paperwork Reduction Act of 1995, the Forest Service is seeking comments from all interested individuals and organizations on the extension with revisions of a currently approved information collection, Timber Sale Contract Operations and Administration.

DATES: Comments must be received in writing on or before September 20, 2021 to be assured of consideration. Comments received after that date will be considered to the extent practicable.

ADDRESSES: Forms may be reviewed and comments submitted at https://cara.ecosystem-management.org/Public/CommentInput?project=ORMS-2912. Comments concerning this notice may also be addressed to:

Email: SM.FS.TSAdminForms@usda.gov.

Mail: Director, Forest Management, 1400 Independence Avenue SW, Mail Stop 1103, Washington, DC 20250-0003.

Facsimile: 202-205-1045.

Please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may request an electronic copy of the draft supporting statement and/or any comments received be sent via return email. Requests should be emailed to SM.FSAdminForms@usda.gov.

FOR FURTHER INFORMATION CONTACT: Carl Maass, Forest Management Staff, at 970-295-5961. Individuals who use telecommunication devices for the deaf (TDD) may call the Federal Information Relay Service (FIRS) at 1-800-877-8339 twenty-four hours a day, every day of the year, including holidays.

SUPPLEMENTARY INFORMATION: Title: Timber Sale Contract Operations and Administration.

OMB Number: 0596-0225.

Expiration Date of Approval: September 30, 2021.

Type of Request: Extension with revisions of a currently approved information collection.

Abstract: Forest Service contracts for the sale of timber and other forest products are bilateral contracts in which both contracting parties are bound to fulfill obligations reciprocally. By their nature, bilateral contracts require both parties to routinely share information and enter into agreements pertaining to operations and performance. Some information collected under Forest Service contracts is required by laws, regulations, and/or timber sale policies. Each contract specifies information the contractor will be required to provide, including the timing and frequency of the information collection.

The type and amount of information collected varies depending on the size, complexity, and length of each contract, and external factors such as weather and market conditions. The information collected includes plans, requests, agreements, and notices necessary for operations under the terms of the contracts. Forest Service officers collect the information from contractors who may be individuals, private sector businesses, or other government entities. The information is submitted in a variety of formats including Forest Service forms, Government Standard and/or Common Forms, forms developed by individual contractors, charts, maps, email messages, facsimiles, and letters. Also, to assist small contractors and lessen their burden, individual Contracting Officers may provide optional forms for some of the information collected.

Depending on the purpose of the specific information collection, the information may be submitted by electronic mail, facsimile, conventional mail, or hand delivery. The information is needed by the Agency for a variety of uses associated with the operations and administration of contracts for the sale of timber and other forest products, in order to: (1) Plan and schedule contract administration workloads, (2) plan and schedule the delivery of government furnished materials needed by contractors, (3) assure the safety of the public in the vicinity of contract work, (4) identify contractor resources that may be used in emergency fire-fighting situations, (5) determine contractor eligibility for additional contract time, (6) determine contractor eligibility for re-determining contract rates, (7) monitor compliance with domestic processing requirements, (8) monitor compliance with Small Business Administration requirements, (9) process agreements and modifications, (10) inspect and accept work and (11) properly process payment bonds.

Forms Associated With This Information Collection

• FS-2400-0076 Pre-Award Waiver, Release, and Limitation of Liability Agreement: This form was developed for limited use when the apparent high bidder of a sale that is the subject of litigation requests to have the sale awarded prior to the litigation being resolved.

The following forms are available for optional use by timber sale purchasers and contractors: FS-2400-0077 General Plan of Operation. This form may be used to meet the requirements for a general Plan of Operations which outlines the Purchaser's planned periods of operation and methods for meeting contractual requirements by the contract termination date.

• FS-2400-0078 Annual Operating Schedule. This form may be used to meet the requirement to provide a written annual Operating Schedule outlining anticipated major activities before commencing operations.

• FS-2400-0079 Specified Road Schedule of Proposed Progress. May be used for sales that have specified road construction or reconstruction to fulfill the requirements to annually prepare a supplement to the Plan of Operations for road construction activities.

The following forms are for mandatory use when purchaser requests changes to the terms of the contract:

• FS-2400-0009 Agreement to Modify Timber Sale or Integrated Resource Timber Contract. This form is required to be used when a contract is modified under the terms of the contract.

• FS-2400-0010 Agreement Extend and Modify Timber Sale or Integrated Resource Timber Contract. This form is required to be used when a contract is extended or modified under the terms of the contract.

• FS-2400-0011 Waiver of Time Limit: Required for use when additional time is needed for a Purchaser to complete non-timber removal work after the contract terminates.

• FS-2400-0012 Third Party Agreement: Required for use when a Purchaser requests that another party take over operational responsibility for timber sale contract.

• FS-2400-0016 Cooperative Agreement: Required for use when a Purchaser requests Forest Service to assume the Purchaser's obligation to perform work under the contract.

The following forms are for mandatory use when purchaser requests the use of a Payment Bond or Blanket Payment Bond on the contract:

• FS-6500-12 Payment Bond (for Timber Sales and Integrated Resource Timber Contracts). This form is used to guarantee payment by way of an acceptable surety bond for an individual timber sale or Integrated Resource Timber contract.

• FS-6500-12a Blanket Payment Bond. This form is used to guarantee payment by way of an acceptable surety bond for more than one timber sale.

Type of Respondents: Timber sale purchasers and integrated resource timber contracts contractors.

Estimated Annual Number of Contracts: 3,400.

Estimated Annual Number of Respondents: 1,370.

Estimated Annual Responses: 128,100.

Estimated Annual Number of Responses per Respondent: 93.5.

Estimated Total Annual Burden on Respondents: 40,700 hours.

Estimate of Average Burden per Response: 0.32 hours.

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: July 15, 2021.
Tina Johna Terrell,
Associate Deputy Chief, National Forest System.

[FR Doc. 2021-15390 Filed 7-19-21; 8:45 am]

BILLING CODE 3411-15-P